Executive Order 14261 of April 8, 2025

Reinvigorating America's Beautiful Clean Coal Industry and Amending Executive Order 14241

By the authority vested in me as President by the Constitution and the laws of the United States of America, it is hereby ordered:

Section 1. Purpose. In order to secure America's economic prosperity and national security, lower the cost of living, and provide for increases in electrical demand from emerging technologies, we must increase domestic energy production, including coal. Coal is abundant and cost effective, and can be used in any weather condition. Moreover, the industry has historically employed hundreds of thousands of Americans. America's coal resources are vast, with a current estimated value in the trillions of dollars, and are more than capable of substantially contributing to American energy independence with excess to export to support allies and our economic competitiveness. Our Nation's beautiful clean coal resources will be critical to meeting the rise in electricity demand due to the resurgence of domestic manufacturing and the construction of artificial intelligence data processing centers. We must encourage and support our Nation's coal industry to increase our energy supply, lower electricity costs, stabilize our grid, create high-paying jobs, support burgeoning industries, and assist our allies.

Sec. 2. Policy. It is the policy of the United States that coal is essential to our national and economic security. It is a national priority to support the domestic coal industry by removing Federal regulatory barriers that undermine coal production, encouraging the utilization of coal to meet growing domestic energy demands, increasing American coal exports, and ensuring that Federal policy does not discriminate against coal production or coal-fired electricity generation.

Sec. 3. Strengthening Our National Energy Security. The Chair of the National Energy Dominance Council (NEDC) shall designate coal as a “mineral” as defined in section 2 of Executive Order 14241 of March 20, 2025 (Immediate Measures to Increase American Mineral Production), thereby entitling coal to all the benefits of a “mineral” under that order. Further, Executive Order 14241 is hereby amended by deleting the reference to “4332(d)(1)(B)” in section 6(d) of that order and replacing it with a reference to “4532(d)(1)(B)”.

Sec. 4. Assessing Coal Resources and Accessibility on Federal Lands. (a) Within 60 days of the date of this order, the Secretary of the Interior, the Secretary of Agriculture, and the Secretary of Energy shall submit a consolidated report to the President through the Assistant to the President for Economic Policy that identifies coal resources and reserves on Federal lands, assesses impediments to mining such coal resources, and proposes policies to address such impediments and ultimately enable the mining of such coal resources by either private or public actors.

(b) The Secretary of Energy shall include in the report described in subsection (a) of this section an analysis of the impact that the availability of the coal resources identified could have on electricity costs and grid reliability.

Sec. 5. Lifting Barriers to Coal Mining on Federal Lands. (a) The Secretary of the Interior and the Secretary of Agriculture shall prioritize coal leasing and related activities, consistent with applicable law, as the primary land use for the public lands with coal resources identified in the report described in section 4(a) of this order and expedite coal leasing in these areas, including by utilizing such emergency authorities as are available to them and identifying opportunities to provide for expedited environmental reviews, consistent with applicable law.

(b) The Secretary of the Interior, pursuant to the authorities in the Mineral Leasing Act of 1920, as amended and supplemented (30 U.S.C. 181 et seq.), the Mineral Leasing Act for Acquired Lands of 1947, as amended (30 U.S.C. 351-359), and the Multiple Mineral Development Act of 1954 (30 U.S.C. 521-531 et seq.), shall acknowledge the end of the Jewell Moratorium by ordering the publication of a notice in the Federal Register terminating the “Environmental Impact Statement Analyzing the Potential Environmental Effects from Maintaining Secretary Jewell's Coal Leasing Moratorium”, and process royalty rate reduction applications from Federal coal lessees in as expeditious a manner as permitted by applicable law.

Sec. 6. Supporting American Coal as an Energy Source. (a) Within 30 days of the date of this order, the Administrator of the Environmental Protection Agency, the Secretary of Transportation, the Secretary of the Interior, the Secretary of Energy, the Secretary of Labor, and the Secretary of the Treasury shall identify any guidance, regulations, programs, and policies within their respective executive department or agency that seek to transition the Nation away from coal production and electricity generation.

(b) Within 60 days of the date of this order, the heads of all relevant executive departments and agencies (agencies) shall consider revising or rescinding Federal actions identified in subsection (a) of this section consistent with applicable law.

(c) Agencies that are empowered to make loans, loan guarantees, grants, equity investments, or to conclude offtake agreements, both domestically and abroad, shall, to the extent permitted by law, take steps to rescind any policies or regulations seeking to or that actually discourage investment in coal production and coal-fired electricity generation, such as the 2021 U.S. Treasury Fossil Fuel Energy Guidance for Multilateral Development Banks rescinded by the Department of the Treasury and similar policies or regulations.

(d) Within 30 days of the date of this order, the Secretary of State, the Secretary of Agriculture, the Secretary of Commerce, the Secretary of Energy, the Chief Executive Officer of the International Development Finance Corporation, the President of the Export-Import Bank of the United States, and the heads of all other agencies that have discretionary programs that provide, facilitate, or advocate for financing of energy projects shall review their charters, regulations, guidance, policies, international agreements, analytical models and internal bureaucratic processes to ensure that such materials do not discourage the agency from financing coal mining projects and electricity generation projects. Consistent with law, and subject to the applicable agency head's discretion, where appropriate, any identified preferences against coal use shall immediately be eliminated except as explicitly provided for in statute.

Sec. 7. Supporting American Coal Exports. The Secretary of Commerce, in consultation with the Secretary of State, the Secretary of Energy, the United States Trade Representative, the Assistant to the President for National Security, and the heads of other relevant agencies, shall take all necessary and appropriate actions to promote and identify export opportunities for coal and coal technologies and facilitate international offtake agreements for United States coal.

Sec. 8. Expanding Use of Categorical Exclusions for Coal Under the National Environmental Policy Act. Within 30 days of the date of this order, each agency shall identify to the Council on Environmental Quality any existing and potential categorical exclusions pursuant to the National Environmental Policy Act, increased reliance on and adoption of which by other agencies pursuant to 42 U.S.C. 4336c could further the production and export of coal.

Sec. 9. Steel Dominance. (a) The Secretary of Energy, pursuant to the authority under the Energy Act of 2020 (the “Act”), shall determine whether coal used in the production of steel meets the definition of a “critical material” under the Act and, if so, shall take steps to place it on the Department of Energy Critical Materials List.

(b) The Secretary of the Interior, pursuant to the authority under the Act, shall determine whether metallurgical coal used in the production of steel meets the criteria to be designated as a “critical mineral” under the Act and, if so, shall take steps to place coal on the Department of the Interior Critical Minerals List.

Sec. 10. Powering Artificial Intelligence Data Centers. (a) For the purposes of this order, “artificial intelligence” or “AI” has the meaning set forth in 15 U.S.C. 9401(3).

(b) Within 60 days of the date of this order, the Secretary of the Interior, Secretary of Commerce, and the Secretary of Energy shall identify regions where coal-powered infrastructure is available and suitable for supporting AI data centers; assess the market, legal, and technological potential for expanding coal-based infrastructure to power data centers to meet the electricity needs of AI and high-performance computing operations; and submit a consolidated summary report with their findings and proposals to the Chair of the NEDC, the Assistant to the President for Science and Technology and the Special Advisor for AI and Crypto.

Sec. 11. Acceleration of Coal Technology. (a) The Secretary of Energy shall take all necessary actions, consistent with applicable law, to accelerate the development, deployment, and commercialization of coal technologies including, but not limited to, utilizing all available funding mechanisms to support the expansion of coal technology, including technologies that utilize coal and coal byproducts such as building materials, battery materials, carbon fiber, synthetic graphite, and printing materials, as well as updating coal feedstock for power generation and steelmaking.

(b) Within 90 days of the date of this order, the Secretary of Energy shall submit a detailed action plan to the President through the Chair of the NEDC outlining the funding mechanisms, programs, and policy actions taken to accelerate coal technology deployment.

Sec. 12. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 8, 2025.

[FR Doc. 2025-06380

Filed 4-11-25; 8:45 am]

Billing code 3395-F4-P